INTERNATIONAL TRADE COMMISSION

[Investigation Nos. 701-TA-413, 731-TA-913-918 (Final)]

In the Matter of Stainless Steel Bar From France, Germany, Italy, Korea, Taiwan, and the United Kingdom; Notice of Commission Determination to Conduct a Portion of the Hearing in Camera

AGENCY: U.S. International Trade Commission.

ACTION: Closure of a portion of a Commission hearing to the public.

SUMMARY: Upon request of respondents BDG Edelstahl, Corus Engineering Steels, Edelstahl Witten-Krefeld GmbH, Firth Rixon Special Steels Ltd., Krupp Edelstahlprofile GmbH, Sandvik Metinox Ltd., Stahlwerk Ergste Westig GmbH and Walzwerke Einsal GmbH (collectively “Respondents”), the Commission has determined to conduct a portion of its hearing in the above-captioned investigations scheduled for January 17, 2002, in camera. See Commission rules 207.24(d), 201.13(m) and 201.36(b)(4) (19 CFR 207.24(d), 201.13(m) and 201.36(b)(4)). The remainder of the hearing will be open to the public. The Commission has determined that the seven-day advance notice of the change to a meeting was not possible. See Commission rule 201.35(a), (c)(1) (19 CFR 201.35(a), (c)(1)).

FOR FURTHER INFORMATION CONTACT: Marc A. Bernstein, Office of General Counsel, U.S. International Trade Commission, 500 E Street, SW., Washington, DC 20436, telephone 202-205-3087, e-mail mbernstein@usitc.gov. Hearing-impaired individuals are advised that information on this matter may be obtained by contacting the Commission's TDD terminal on 202-205-1810.

SUPPLEMENTARY INFORMATION: The Commission believes that Respondents have justified the need for a closed session. Respondents seek a closed session to allow testimony concerning the manner in which internal transfers of individual domestic stainless steel bar producers should be valued and related issues regarding financial performance. Because such discussions will necessitate disclosure of business proprietary information (BPI), they can only occur if a portion of the hearing is held in camera. In making this decision, the Commission nevertheless reaffirms its belief that whenever possible its business should be conducted in public.

The hearing will include the usual public presentations by petitioners and by respondents, with questions from the Commission. In addition, the hearing will include an in camera session for a confidential presentation by Respondents and for questions from the Commission relating to the BPI, followed by an in camera rebuttal presentation by petitioners and questions from the Commission relating to the BPI. For any in camera session the room will be cleared of all persons except those who have been granted access to BPI under a Commission administrative protective order (APO) and are included on the Commission's APO service list in this investigations. See 19 CFR 201.35(b)(1), (2). The time for the parties' presentations and rebuttals in the in camera session will be taken from their respective overall allotments for the hearing. All persons planning to attend the in camera portions of the hearing should be prepared to present proper identification.

Authority: The General Counsel has certified, pursuant to Commission Rule 201.39 (19 CFR 201.39) that, in her opinion, a portion of the Commission's hearing in Stainless Steel Bar from France, Germany, Italy, Korea, Taiwan, and the United Kingdom, Inv. Nos. 701-TA-413, 731-TA-913-918 (Final) may be closed to the public to prevent the disclosure of BPI.

Issued: January 16, 2002.
By order of the Commission.
Marilyn R. Abbott,
Acting Secretary.

[FR Doc. 02-1568 Filed 1-22-02; 8:45 am]

BILLING CODE 7020-02-P